DEPARTMENT OF ENERGY

Federal Energy Regulatory Commission

Combined Notice of Filings #1

Take notice that the Commission received the following electric corporate filings:

Docket Numbers: EC21-121-000.

Applicants: Caledonia Generating, LLC, CPV Fairview, LLC.

Description: Application for Authorization Under Section 203 of the Federal Power Act of CPV Fairview, LLC, et al.

Filed Date: 8/30/21.

Accession Number: 20210830-5190.

Comment Date: 5 p.m. ET 9/20/21.

Take notice that the Commission received the following electric rate filings:

Docket Numbers: ER10-2960-012; ER19-2231-004; ER19-2232-004; ER10-1595-015; ER18-2418-004; ER10-1598-015; ER10-1616-015; ER10-1618-015; ER18-1821-007.

Applicants: Walleye Power, LLC, Rolling Hills Generating, L.L.C., New Covert Generating Company, LLC, Lincoln Generating Facility, LLC, Great River Hydro, LLC, Crete Energy Venture, LLC, Chief Keystone Power II, LLC, Chief Conemaugh Power II, LLC, Astoria Generating Company, L.P.

Description: Amendment to the March 1, 2021 Deficiency Letter Response of Astoria Generating Company, L.P., et al. under ER10-2960, et al.

Filed Date: 8/27/21.

Accession Number: 20210827-5203.

Comment Date: 5 p.m. ET 9/17/21.

Docket Numbers: ER19-2722-006.

Applicants: PJM Interconnection, L.L.C.

Description: Compliance filing: Compliance Filing re Fast-Start to be effective 9/1/2021.

Filed Date: 8/30/21.

Accession Number: 20210830-5055.

Comment Date: 5 p.m. ET 9/7/21.

Docket Numbers: ER20-2044-003.

Applicants: Southwest Power Pool, Inc.

Description: Compliance filing: Supp. Deficiency Response in ER20-2044-__-Westar Energy, Order 864 Compliance to be effective N/A.

Filed Date: 8/27/21.

Accession Number: 20210827-5162.

Comment Date: 5 p.m. ET 9/17/21.

Docket Numbers: ER21-2790-000.

Applicants: PJM Interconnection, L.L.C.

Description: Tariff Amendment: Notice of Cancellation of WMPA SA No. 6067; Queue No. AG1-079 to be effective 10/2/2021.

Filed Date: 8/31/21.

Accession Number: 20210831-5043.

Comment Date: 5 p.m. ET 9/21/21.

Docket Numbers: ER21-2791-000.

Applicants: Southwest Power Pool, Inc.

Description: § 205(d) Rate Filing: 3841 WAPA and Glacier Electric Coop Interconnection Agr to be effective 8/30/2021.

Filed Date: 8/31/21.

Accession Number: 20210831-5060.

Comment Date: 5 p.m. ET 9/21/21.

Docket Numbers: ER21-2792-000.

Applicants: Vermont Transco LLC.

Description: § 205(d) Rate Filing: Vermont Transco LLC, Corrected Tariff Filing to be effective 7/1/2011.

Filed Date: 8/31/21.

Accession Number: 20210831-5081.

Comment Date: 5 p.m. ET 9/21/21.

Docket Numbers: ER21-2793-000.

Applicants: Midcontinent Independent System Operator, Inc.

Description: § 205(d) Rate Filing: 2021-08-31_Attachment X Multi-Party Facilities Service Agreement (MPFSA) to be effective 10/31/2021.

Filed Date: 8/31/21.

Accession Number: 20210831-5101.

Comment Date: 5 p.m. ET 9/21/21.

Docket Numbers: ER21-2794-000.

Applicants: Southwest Power Pool, Inc.

Description: § 205(d) Rate Filing: 3818 and 3819 The Energy Authority, Inc. PTP Agreements to be effective 8/1/2021.

Filed Date: 8/31/21.

Accession Number: 20210831-5107.

Comment Date: 5 p.m. ET 9/21/21.

Docket Numbers: ER21-2795-000; TS21-3-000.

Applicants: Black Rock Wind Force, LLC, Black Rock Wind Force, LLC.

Description: Request of Black Rock Wind Force, LLC for Temporary Waivers under Section 35.28 of the Commission's Regulations.

Filed Date: 8/30/21.

Accession Number: 20210830-5191.

Comment Date: 5 p.m. ET 9/20/21.

Docket Numbers: ER21-2796-000.

Applicants: Alabama Power Company.

Description: § 205(d) Rate Filing: Pine Burr Solar 1 LGIA Filing to be effective 8/17/2021.

Filed Date: 8/31/21.

Accession Number: 20210831-5134.

Comment Date: 5 p.m. ET 9/21/21.

Docket Numbers: ER21-2797-000.

Applicants: Midcontinent Independent System Operator, Inc.

Description: § 205(d) Rate Filing: 2021-08-31_Operating Reserve Demand Curve (ORDC) Modifications to be effective 12/7/2021.

Filed Date: 8/31/21.

Accession Number: 20210831-5143.

Comment Date: 5 p.m. ET 9/21/21.

Docket Numbers: ER21-2798-000.

Applicants: Florida Power & Light Company.

Description: Baseline eTariff Filing: Florida Power & Light Company's Filing to Re-file Market Based Rate Tariff to be effective 9/1/2021.

Filed Date: 8/31/21.

Accession Number: 20210831-5148.

Comment Date: 5 p.m. ET 9/21/21.

Docket Numbers: ER21-2799-000.

Applicants: Florida Power & Light Company.

Description: Baseline eTariff Filing: Florida Power & Light Company's Re-Baseline Filing of the NITSA Database to be effective 9/1/2021.

Filed Date: 8/31/21.

Accession Number: 20210831-5157.

Comment Date: 5 p.m. ET 9/21/21.

Docket Numbers: ER21-2800-000.

Applicants: Alabama Power Company.

Description: § 205(d) Rate Filing: OATT Attachment C Amendment to be effective 9/1/2021.

Filed Date: 8/31/21.

Accession Number: 20210831-5171.

Comment Date: 5 p.m. ET 9/21/21.

Docket Numbers: ER21-2801-000.

Applicants: Midcontinent Independent System Operator, Inc.

Description: § 205(d) Rate Filing: 2021-08-31_Applicability of Value of Lost Load Pricing During Emergency Events to be effective 10/31/2021.

Filed Date: 8/31/21.

Accession Number: 20210831-5174.

Comment Date: 5 p.m. ET 9/21/21.

Docket Numbers: ER21-2802-000.

Applicants: New England Power Pool Participants Committee.

Description: § 205(d) Rate Filing: September 2021 Membership Filing to be effective 8/1/2021.

Filed Date: 8/31/21.

Accession Number: 20210831-5175.

Comment Date: 5 p.m. ET 9/21/21.

Docket Numbers: ER21-2803-000.

Applicants: Florida Power & Light Company.

Description: Baseline eTariff Filing: Florida Power & Light Company's Re-Baseline Filing of the OATT to be effective 9/1/2021.

Filed Date: 8/31/21.

Accession Number: 20210831-5187.

Comment Date: 5 p.m. ET 9/21/21.

Docket Numbers: ER21-2804-000.

Applicants: Louisville Gas and Electric Company.

Description: § 205(d) Rate Filing: BREC Construction Specifications Agreement FERC RS No. 521 to be effective 8/23/2021.

Filed Date: 8/31/21.

Accession Number: 20210831-5188.

Comment Date: 5 p.m. ET 9/21/21.

Docket Numbers: ER21-2805-000.

Applicants: Kentucky Utilities Company.

Description: § 205(d) Rate Filing: KU Concurrence to BREC Construction Specifications Agreement FERC RS No. 521 to be effective 8/23/2021.

Filed Date: 8/31/21.

Accession Number: 20210831-5190.

Comment Date: 5 p.m. ET 9/21/21.

Docket Numbers: ER21-2806-000.

Applicants: Florida Power & Light Company.

Description: Baseline eTariff Filing: Florida Power & Light Cmpany's Filing to Re-Baseline T-1 Tariff to be effective 9/1/2021.

Filed Date: 8/31/21.

Accession Number: 20210831-5192.

Comment Date: 5 p.m. ET 9/21/21.

Docket Numbers: ER21-2808-000.

Applicants: Southwest Power Pool, Inc.

Description: § 205(d) Rate Filing: 2969R3 Associated Electric Cooperative, Inc. NITSA NOA to be effective 8/1/2021.

Filed Date: 8/31/21.

Accession Number: 20210831-5202.

Comment Date: 5 p.m. ET 9/21/21.

Docket Numbers: ER21-2809-000.

Applicants: Florida Power & Light Company.

Description: Baseline eTariff Filing: Florida Power & Light Company's Re-Baseline Filing of TSA Database to be effective 9/1/2021.

Filed Date: 8/31/21.

Accession Number: 20210831-5203.

Comment Date: 5 p.m. ET 9/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2021.
Debbie-Anne A. Reese,
Deputy Secretary.

[FR Doc. 2021-19207 Filed 9-3-21; 8:45 am]

BILLING CODE 6717-01-P